DEPARTMENT OF THE INTERIOR

National Park Service

[NPS-WASO-NAGPRA-NPS0037166; PPWOCRADN0-PCU00RP14.R50000]

Notice of Inventory Completion: San Jose State University, San Jose, CA

AGENCY: National Park Service, Interior.

ACTION: Notice.

SUMMARY: In accordance with the Native American Graves Protection and Repatriation Act (NAGPRA), San Jose State University has completed an inventory of human and has determined that there is a cultural affiliation between the human remains and Indian Tribes or Native Hawaiian organizations in this notice. The human remains were removed from Ventura County, CA.

DATES: Repatriation of the human remains in this notice may occur on or after February 2, 2024.

ADDRESSES: Charlotte Sunseri, Ph.D., San Jose State University, One Washington Square, San Jose, CA 95192-0113, telephone (408) 924-5713, email charlotte.sunseri@sjsu.edu.

SUPPLEMENTARY INFORMATION: This notice is published as part of the National Park Service's administrative responsibilities under NAGPRA. The determinations in this notice are the sole responsibility of San Jose State University. The National Park Service is not responsible for the determinations in this notice. Additional information on the determinations in this notice, including the results of consultation, can be found in the inventory or related records held by San Jose State University.

Description

Human remains representing, at minimum, two individuals were removed from Ventura County, CA. In an unknown year, human remains were removed from Ferndale Ranch (CA-VEN-404). One lot of teeth were donated to the San Jose State University College of Science with labels that indicate site provenience. The excavation or collection dates are unknown, yet other investigations at this site were conducted in 1976-1977 by C. W. Clewlow and the University of Santa Clara, and in 1977 by Dr. Christopher L. Moser. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: oral history and traditional territorial boundaries provided during consultation.

Determinations

Pursuant to NAGPRA and its implementing regulations, and after consultation with the appropriate Indian Tribes and Native Hawaiian organizations, San Jose State University has determined that:

• The human remains described in this notice represent the physical remains of at least two individuals of Native American ancestry.

• There is a relationship of shared group identity that can be reasonably traced between the human remains and associated funerary objects described in this notice and the Santa Ynez Band of Chumash Mission Indians of the Santa Ynez Reservation, California.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 2, 2024. If competing requests for repatriation are received, San Jose State University must determine the most appropriate requestor prior to repatriation. Requests for joint repatriation of the human remains are considered a single request and not competing requests. San Jose State University is responsible for sending a copy of this notice to the Indian Tribes and Native Hawaiian organizations identified in this notice.

Authority: Native American Graves Protection and Repatriation Act, 25 U.S.C. 3003, and the implementing regulations, 43 CFR 10.9, 10.10, and 10.14.

Dated: December 20, 2023.
Melanie O'Brien,
Manager, National NAGPRA Program.

[FR Doc. 2023-28921 Filed 1-2-24; 8:45 am]

BILLING CODE 4312-52-P